SECURITIES AND EXCHANGE COMMISSION

[File No. 1-15563]

Issuer Delisting; Notice of Application To Withdraw from Listing and Registration on the American Stock Exchange LLC (IPI, Inc., Common Stock, $.01 Par Value)

February 5, 2002.

IPI, Inc., a Minnesota corporation (“Issuer”), has filed an application with the Securities and Exchange Commission (“Commission”), pursuant to section 12(d) of the Securities Exchange Act of 1934 (“Act”) ¹ and Rule 12d2-2(d) hereunder,² to withdraw its Common Stock, $.01 par value (“Security”), from listing and registration on the American Stock Exchange LLC (“Amex” or “Exchange”)

¹ 15 U.S.C. 78l(d).

² 17 CFR 240.12d2-2(d).

The Issuer stated in its application that it has met the requirements of Amex Rule l8 by complying with all applicable laws in effect in the state of Minnesota, in which it is incorporated, and with the Amex's rules governing an issuer's voluntary withdrawal of a security from listing and registration. The Issuer's application relates solely to the Security's withdrawal from listing and registration under section 12(b) of the Act ³ and shall not affect its obligation to be registered under section 12(g) of the Act.⁴

³ 15 U.S.C. 781(b).

⁴ 15 U.S.C. 781(g).

On January 15, 2002, the Board of Directors of the Issuer (“Board”) approved a resolution to withdraw the Issuer's Security from the Amex. On January 31, 2002, the Issuer held a special meeting of its shareholders to approve and adopt a plan of liquidation and dissolution of the Issuer that will authorize: (i) The sale of the assets of the Issuer and the distribution to shareholders pursuant to the plan; (ii) the deregistration of the Issuer's Security under the Act; and (iii) the dissolution of the Issuer pursuant to the Minnesota Business Corporation Act. The Board believes it advisable and in the best interest of the Issuer to withdraw its Security from listing and registration on the Amex in connection with the plan of liquidation and resolution.

Any interested person may, on or before February 28, 2002 submit by letter to the Secretary of the Securities and Exchange Commission, 450 Fifth Street, NW, Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 02-3306 Filed 2-11-02; 8:45 am]

BILLING CODE 8010-01-P